COMMODITY FUTURES TRADING COMMISSION

17 CFR Part 39

RIN 3038-AC98

Risk Management Requirements for Derivatives Clearing Organizations; Correction

AGENCY: Commodity Futures Trading Commission.

ACTION: Notice of proposed rulemaking; correction.

SUMMARY: This document corrects incorrect text published in the Federal Register of January 20, 2011, regarding Risk Management Requirements for Derivatives Clearing Organizations.

FOR FURTHER INFORMATION CONTACT: Phyllis Dietz, 202-418-5449.

Correction

In proposed rule document 2011-690, in the issue of Thursday, January 20, 2011, on page 3726, in the first column, the text of proposed § 39.19(c)(1)(iv), which reads “End-of-day positions for each clearing member, by customer origin and house origin” should read, “End-of-day positions for each clearing member, by customer origin and house origin; and for customer origin, separately, the gross positions of each beneficial owner.”

Dated: March 18, 2011.
David A. Stawick,
Secretary of the Commission.

[FR Doc. 2011-6976 Filed 3-23-11; 8:45 am]

BILLING CODE P